FEDERAL COMMUNICATIONS COMMISSION

47 CFR Part 1

[WC Docket No. 17-84; Report No. 3210; FR ID 204483]

Petition for Reconsideration of Action in Rulemaking Proceeding

AGENCY: Federal Communications Commission.

SUMMARY: Petition for Reconsideration of Action in a Rulemaking Proceeding in WC Docket No. 17-84, adopted by the Commission on December 13, 2023, by Thomas B. Magee on behalf of Coalition of Concerned Utilities.

DATES: Oppositions to the Petition must be filed on or before March 15, 2024. Replies to oppositions to the Petition must be filed on or before March 25, 2024.

ADDRESSES: Federal Communications Commission, 45 L Street NE, Washington, DC 20554.

FOR FURTHER INFORMATION CONTACT: For additional information on this proceeding, contact Michael Ray of the Wireline Competition Bureau, Competition Policy Division, at (202) 418-0357 or Michael.Ray@fcc.gov.

SUPPLEMENTARY INFORMATION: This is a summary of the Commission's document, Report No. 3210, released February 16, 2024. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Administrative practice and procedure.

Number of Petitions Filed: 1.

Federal Communications Commission.
Marlene Dortch,
Secretary, Office of the Secretary.

[FR Doc. 2024-04237 Filed 2-28-24; 8:45 am]

BILLING CODE 6712-01-P